FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 3, 2014.

A. Federal Reserve Bank of Chicago (Colette A. Fried, Assistant Vice President) 230 South LaSalle Street, Chicago, Illinois 60690-1414:

1. Elizabeth L. Celio, Oak Park, Illinois, individually, and as part of the Lumpkin Family Control Group, and three trusts established for the benefit of minors, with Steven L. Grissom, as trustee of the trusts, all of Mattoon, Illinois, to join the existing Lumpkin Family Control Group; to acquire voting shares of First Mid-Illinois Bancshares, Inc., and thereby indirectly acquire voting shares of First Mid-Illinois Bank & Trust, National Association, both in Mattoon, Illinois.

Board of Governors of the Federal Reserve System, May 14, 2014.
Michael J. Lewandowski,
Associate Secretary of the Board.

[FR Doc. 2014-11471 Filed 5-16-14; 8:45 am]

BILLING CODE 6210-01-P